DEPARTMENT OF JUSTICE

Drug Enforcement Administration

[Docket No. DEA-392]

Bulk Manufacturer of Controlled Substances Application: MALLINCKRODT, LLC

ACTION: Notice of application.

DATES: Registered bulk manufacturers of the affected basic classes, and applicants therefore, may file written comments on or objections to the issuance of the proposed registration in accordance with 21 CFR 1301.33(a) on or before August 4, 2014.

ADDRESSES: Written comments should be sent to: Drug Enforcement Administration, Attention: DEA Federal Register Representative/ODW, 8701 Morrissette Drive, Springfield, Virginia 22152.

SUPPLEMENTARY INFORMATION: The Attorney General has delegated his authority under the Controlled Substances Act to the Administrator of the Drug Enforcement Administration (DEA), 28 CFR 0.100(b). Authority to exercise all necessary functions with respect to the promulgation and implementation of 21 CFR part 1301, incident to the registration of manufacturers, distributors, and dispensers of controlled substances (other than final orders in connection with suspension, denial, or revocation of registration) has been redelegated to the Deputy Assistant Administrator of the DEA Office of Diversion Control (“Deputy Assistant Administrator”) pursuant to sec. 7(g) of 28 CFR pt. 0, subpt. R, App.

In accordance with 21 CFR 1301.33(a), this is notice that on January 16, 2014, Mallinckrodt, LLC., 3600 North Second Street, St. Louis, Missouri 63147, applied to be registered as a bulk manufacturer of the following basic classes of narcotic or nonnarcotic controlled substances:

Controlled substance | Schedule
Tetrahydrocannabinols (7370) | I
Codeine-N-oxide (9053) | I
Dihydromorphine (9145) | I
Difenoxin (9168) | I
Morphine-N-oxide (9307) | I
Normorphine (9313) | I
Norlevorphanol (9634) | I
Amphetamine (1100) | II
Methamphetamine (1105) | II
Phenylacetone (8501) | II
Methylphenidate (1724) | II
Nabilone (7379) | II
4-Anilino-N-phenethyl-4-piperidine (8333) | II
Codeine (9050) | II
Dihydrocodeine (9120) | II
Oxycodone (9143) | II
Hydromorphone (9150) | II
Diphenoxylate (9170) | II
Ecgonine (9180) | II
Hydrocodone (9193) | II
Levorphanol (9220) | II
Meperidine (9230) | II
Methadone (9250) | II
Methadone intermediate (9254) | II
Dextropropoxyphene, bulk (non-dosage forms) (9273) | II
Morphine (9300) | II
Thebaine (9333) | II
Opium tincture (9630) | II
Opium, powdered (9639) | II
Oxymorphone (9652) | II
Noroxymorphone (9668) | II
Alfentanil (9737) | II
Remifentanil (9739) | II
Sufentanil (9740) | II
Fentanyl (9801) | II

The company plans to manufacture the listed controlled substances for internal use and for distribution to other companies.

Dated: May 28, 2014.
Joseph T. Rannazzisi,
Deputy Assistant Administrator.

[FR Doc. 2014-12794 Filed 6-2-14; 8:45 am]

BILLING CODE 4410-09-P